DEPARTMENT OF LABOR

Occupational Safety and Health Administration

Maritime Advisory Committee for Occupational Safety and Health; Notice of Meeting

AGENCY: Occupational Safety and Health Administration (OSHA), Labor.

ACTION: Maritime Advisory Committee for Occupational Safety and Health; notice of meeting.

SUMMARY: The Maritime Advisory Committee for Occupational Safety and Health (“MACOSH” or “Committee”) was established to advise the Assistant Secretary of Labor for OSHA on issues relating to occupational safety and health in the maritime industries. The purpose of this Federal Register notice is to announce the MACOSH and workgroup meetings scheduled for July 31 through August 1, 2007.

DATES: The workgroups will meet on July 31, 2007, from 8 a.m. to 4 p.m. MACOSH will meet on August 1, 2007, from 8:30 a.m. until approximately 5 p.m.

ADDRESSES: The Committee and workgroups will meet at the Elihu Harris State Office Building, 1515 Clay Street, Oakland, CA 94612. Building security requires that attendees have photographic identification (e.g., a valid driver's license) and pass through a screening device. Mail comments, views, or statements in response to this notice to David Wallis, Acting Director, Office of Maritime, OSHA, U.S. Department of Labor, Room N-3609, 200 Constitution Avenue, NW., Washington, DC 20210; phone (202) 693-2086; FAX: (202) 693-1663.

FOR FURTHER INFORMATION CONTACT: For general information about MACOSH and this meeting contact: David Wallis, Acting Director, Office of Maritime, U.S. Department of Labor, Room N-3609, 200 Constitution Avenue, NW., Washington, DC 20210; phone: (202) 693-2086. Individuals with disabilities wishing to attend the meeting should contact Vanessa L. Welch at (202) 693-2086 no later than July 20, 2007, to obtain appropriate accommodations.

SUPPLEMENTARY INFORMATION: All MACOSH meetings, including workgroup meetings, are open to the public. All interested persons are invited to attend the MACOSH meetings at the times and place listed above. The Committee has five workgroups that have identified various topics for discussion. Each workgroup may discuss one or more of the topics listed for that workgroup as time permits.

The Health workgroup discussions will include: Radiation exposure at maritime terminals from cargo screening devices, an update of the NIOSH maritime hearing-protection study, and a briefing on the NIOSH National Occupational Research Agenda (“NORA”) process.

The Longshoring workgroup discussions will include: Crane-operator radio communications, traffic safety, roll-on roll-off cargo guidance, and the International Maritime Organization's (IMO) initiative on cargo-lashing safety.

The Cranes and Falls workgroup discussions will include working on or under suspended loads.

The Shipyards workgroup discussions may include: Spray paint standards, hot work on coatings, aerial work platforms, ship module placement, review of shipbreaking guidance product, and review of Safety and Health Injury Prevention Sheets.

The Outreach and Safety Culture workgroup discussions may include: Leading indicators, root cause analysis (SCA data effort), substance abuse, OSHA/Coast Guard coordination, e-tools, Hispanic worker issues, new technology and safety, updating the OSHA Training Institute shipyard and longshoring courses, training requirements guidance products, and industry pocket guides.

MACOSH agenda: The agenda will include: an OSHA update, reports from each workgroup, a discussion of working on or under suspended loads, pandemic planning in the maritime industry, crane-operator radio communications, traffic safety, roll-on roll-off container safety, IMO initiative on cargo-lashing safety, an update on the nine recommendations from the previous committee meeting, and presentation on the Athena 106 accident.

Public Participation: Written data, views, or comments for consideration by MACOSH on the various agenda items listed above should be submitted to Vanessa L. Welch at the address listed above. Submissions received by July 20, 2007 will be provided to Committee members and will be included in the record of the meeting. Requests to make oral presentations to the Committee may be granted as time permits. Anyone wishing to make an oral presentation to the Committee on any of the agenda items listed above should notify Vanessa L. Welch by July 20, 2007. The request should state the amount of time desired, the capacity in which the person will appear, and a brief outline of the content of the presentation.

Authority: Edwin G. Foulke, Jr., Assistant Secretary of Labor for Occupational Safety and Health, directed the preparation of this notice under the authority granted by Sections 6(b)(1) and 7(b) of the Occupational Safety and Health Act of 1970 (29 U.S.C. 655, 656), the Federal Advisory Committee Act (5 U.S.C. App. 2), Secretary of Labor's Order 5-2007 (72 FR 31159), and 29 CFR part 1912.

Signed at Washington, DC, on July 10, 2007.
Edwin G. Foulke, Jr.,
Assistant Secretary of Labor for Occupational Safety and Health.

[FR Doc. E7-13617 Filed 7-12-07; 8:45 am]

BILLING CODE 4510-26-P